DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Weather Modification Activities Reports.

OMB Control Number: 0648-0025.

Form Number(s): NOAA Forms 17-4 and 17-4a.

Type of Request: Regular (reinstatement, without changes, of a current information collection).

Number of Respondents: 30.

Average Hours per Response: 1 hour per report (2 reports per respondent).

Burden Hours: 60.

Needs and Uses: This request is for reinstatement, without changes, of a current information collection.

Section 6(b) of Public Law 92-205 requires that persons who engage in weather modification activities (e.g., cloud seeding) provide reports prior to and after the activity. They are also required to maintain certain records. The requirements are detailed in 15 CFR part 908. NOAA uses the data for scientific research, historical statistics, international reports and other purposes.

Affected Public: Business or other non-profit organizations; not-for-profit institutions; state, local or tribal government; federal government; individuals or households.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 28, 2018.
Sarah Brabson,
NOAA PRA Clearance Officer.

[FR Doc. 2018-06603 Filed 3-30-18; 8:45 am]

BILLING CODE 3510-KD-P